ADMINISTRATIVE CONFERENCE OF THE UNITED STATES

Small Claims Patent Court Study

AGENCY: Administrative Conference of the United States (ACUS).

ACTION: Notice; extension of comment period.

SUMMARY: On May 3, 2022, the Administrative Conference of the United States (ACUS) published a notice inviting public comments on issues associated with and options for designing a small claims patent court. ACUS is now extending the period for interested persons to submit comments.

DATES: ACUS is extending the comment period for the notice published May 3, 2022 (87 FR 26183). Comments must be received on or before August 26, 2022.

ADDRESSES: You may submit comments by email at info@acus.gov (with “Small Claims Patent Court Comments” in the subject line of the message); online by clicking “Submit a comment” near the bottom of the project web page found at https://www.acus.gov/research-projects/us-patent-small-claims-court; or by U.S. Mail addressed to Small Claims Patent Court Comments, Administrative Conference of the United States, Suite 706 South, 1120 20th Street NW, Washington, DC 20036. Commenters should not include information, such as personal information or confidential business information, that they do not wish to appear on the ACUS website. For the full ACUS public comment policy, please visit https://www.acus.gov/policy/public-comment-policy.

FOR FURTHER INFORMATION CONTACT: Kazia Nowacki, Attorney Advisor, Administrative Conference of the United States, 1120 20th Street NW, Suite 706 South, Washington, DC 20036; Telephone (202) 480-2080; email knowacki@acus.gov.

SUPPLEMENTARY INFORMATION: On May 3, 2022, ACUS published a notice requesting public comments on issues associated with and options for designing a small claims patent court (87 FR 26183). In the notice, ACUS stated that it welcomed views, information, and data on all aspects of a potential small claims patent court or small claims patent proceedings and its impacts. ACUS also listed nine topics on which it was seeking specific feedback.

ACUS has determined that an extension of the public comment period is appropriate to allow interested persons additional time to submit comments for ACUS's consideration.

Dated: July 6, 2022.
Shawne McGibbon,
General Counsel.

[FR Doc. 2022-14727 Filed 7-11-22; 8:45 am]

BILLING CODE 6110-01-P